ENVIRONMENTAL PROTECTION AGENCY

[EPA-HQ-OLEM-2025-0031; FRL-12522-01-OLEM]

The Hazardous Waste Electronic Manifest System Advisory Board: Request for Nominations

AGENCY: Environmental Protection Agency (EPA).

ACTION: Notice.

SUMMARY: The U.S. Environmental Protection Agency (EPA) invites the public to nominate candidates to be considered for a three-year appointment to the Hazardous Waste Electronic Manifest System Advisory Board (the “Board”).Pursuant to the Hazardous Waste Electronic Manifest Establishment Act (the “e-Manifest Act” or the “Act”), EPA has established the Board to provide practical and independent advice, consultation, and recommendations to the EPA Administrator on the activities, functions, policies, and regulations associated with the Hazardous Waste Electronic Manifest (e-Manifest) System. In accordance, with the e-Manifest Act, the EPA Administrator or designee will serve as Chair of the Board. This notice solicits nominations for possible consideration of candidates to fill current and potential anticipated vacancies to serve in the following positions on the Board including: an industry representative member with experience in using or representing users of the manifest system; and a State representative member responsible for processing manifests.

DATES: Nominations of candidates considered for appointment must be received on or before April 7, 2025.

ADDRESSES: Submit your nominations identified with “BOARD NOMINATION” in the subject line to Fred Jenkins, the Designated Federal Officer (DFO) of the e-Manifest Advisory Board at jenkins.fred@epa.gov.

FOR FURTHER INFORMATION CONTACT: Fred Jenkins, Designated Federal Officer (DFO), Phone: 202-566-0344; or by email: jenkins.fred@epa.gov.

SUPPLEMENTARY INFORMATION:

I. Background

On June 30, 2018, EPA established a national system for tracking hazardous waste shipments electronically. This system, known as “e-Manifest,” supports the modernization of the nation's cradle-to-grave hazardous waste tracking process while saving valuable time, resources, and dollars for industry and States.

EPA established the e-Manifest system according to the Hazardous Waste Electronic Manifest Establishment Act, enacted into law on October 5, 2012. The “e-Manifest Act” authorizes the EPA to implement a national electronic manifest system and requires that the costs of developing and operating the new e-Manifest system be recovered from user fees charged to those who use hazardous waste manifests to track off-site shipments of their wastes.

This system enables users of the uniform hazardous waste manifest forms (EPA Form 8700-22 and Continuation Sheet 8700-22A) to have the option to more efficiently track their hazardous waste shipments electronically, in lieu of the paper manifest, from the point of generation, during transportation, and to the point of receipt by an off-site facility that is permitted to treat, store, recycle, or dispose of the hazardous waste. Electronic manifests obtained from the national system augment or replace the paper forms that have historically been used for this purpose, and that result in substantial paperwork costs and other inefficiencies. Congress intended that EPA develop a system that, among other things, meets the needs of the user community and decreases the administrative burden associated with the current paper-based manifest system on the user community. By enabling the transition from a paper-intensive process to an electronic system, EPA estimates e-Manifest will ultimately save State and industry users more than $50 million annually, once electronic manifests are widely adopted. The system also serves as a national reporting hub and database for all manifests and shipment data. To ensure that these goals are met, the Act directs EPA to establish a Board to assess the effectiveness of the electronic manifest system and make recommendations to the Administrator for improving the system.

In addition, the e-Manifest Act directs EPA to develop a system that attracts sufficient user participation and service revenues to ensure the viability of the system. As a result, the Act provides EPA broad discretion to establish reasonable user fees, as the Administrator determines are necessary, to pay costs incurred in developing, operating, maintaining, and upgrading the system, including any costs incurred in collecting and processing data from any paper manifest submitted to the system.

e-Manifest aligns with the Agency's E-Enterprise business strategy. E-Enterprise for the Environment is a transformative 21st century strategy—jointly governed by States and EPA—for modernizing government agencies' delivery of environmental protection. Under this strategy, the Agency will streamline its business processes and systems to reduce reporting burden on States and regulated facilities and improve the effectiveness and efficiency of regulatory programs for EPA, States, and Tribes.

EPA has established the Board in accordance with the provisions of the e-Manifest Act and the Federal Advisory Committee Act (FACA), 5 U.S.C. app. 2. The Board is in the public interest and supports EPA in performing its duties and responsibilities. Pursuant to the e-Manifest Act the Board is comprised of nine members, of which one member is the Administrator (or a designee), who will serve as Chair of the Board, and eight members are individuals appointed by the EPA Administrator:

• At least two of whom have expertise in information technology (IT);

• At least three of whom have experience in using, or represent users of, the manifest system to track the transportation of hazardous waste under Federal and State manifest programs; and

• At least three State representatives responsible for processing those manifests.

Pursuant to the e-Manifest Act, the Board will meet publicly at least annually to provide EPA recommendations on matters related to the operational activities, functions, policies, and/or regulations of the EPA under the e-Manifest Act.

II. Nominations

Any interested person and/or organization may nominate qualified individuals for membership. All nominations will be considered; however, applicants need to be aware of the representation from specific sectors required by the e-Manifest Act.

Nominees who represent States and industry should have a comprehensive knowledge of hazardous waste generation, transportation, treatment, storage, and disposal under RCRA Subtitle C at the Federal, State, and local levels. Nominees who represent States should have comprehensive knowledge of State programs that use manifest data. Nominees who represent industry should be familiar with e-Manifest and have strong knowledge of existing industry systems/devices/approaches and business operations to provide valuable input on e-Manifest integration into current industry data systems.

Another plus for any nominee is experience in setting and/or managing fee-based systems in general.

Additional criteria used to evaluate nominees will include:

• Excellent interpersonal, oral, and written communication skills;

• Demonstrated experience developing group recommendations; and

• Willingness to commit time to the Board and demonstrated ability to work constructively on committees.

Nominations must include a resume, which provides the nominee's background, experience, and educational qualifications, as well as a brief statement (one page or less) describing the nominee's interest in serving on the Board and addressing the other criteria previously described. Nominees are encouraged to provide any additional information that they feel would be useful for consideration, such as: availability to participate as a member of the Board; how the nominee's background, skills, and experience would contribute to the Board; and any concerns the nominee has regarding membership. Nominees should be identified by name, occupation, position, current business address, email, and telephone number.

Interested candidates may self-nominate. The agency will acknowledge receipt of nominations. Persons selected for membership will receive compensation for travel in accordance with Federal Travel Regulations while attending meetings in person.

Dated: February 7, 2025.
Carolyn Hoskinson,
Director, Office of Resource Conservation and Recovery.

[FR Doc. 2025-03600 Filed 3-5-25; 8:45 am]

BILLING CODE 6560-50-P